DEPARTMENT OF THE INTERIOR

Bureau of Indian Affairs

Environmental Impact Statement for Oil and Gas Development Activities on the Uintah and Ouray Indian Reservation, Utah

AGENCY: Bureau of Indian Affairs, Interior.

ACTION: Notice of Intent.

SUMMARY: This notice advises the public that the Bureau of Indian Affairs (BIA), in cooperation with the Ute Indian Tribe, Bureau of Land Management (BLM), U.S. Forest Service (USFS), U.S. Army Corp of Engineers (ACE), U.S. Fish and Wildlife Service (USFWS), U.S. Environmental Protection Agency (EPA), the State of Utah, and Duchesne County, intends to gather information necessary for preparing an Environmental Impact Statement (EIS) that evaluates proposed oil and gas development activities on the Uintah and Ouray Indian Reservation (Reservation), Utah. The Proposed Action consists of drilling up to 4,899 oil and/or natural gas wells over the next 15 years, with a life-of-project of 40 years. In addition to well pad development, linear developments would include roads, pipelines, and power lines. The Proposed Action would also include the development of ancillary facilities such as compressor stations, water treatment facilities, and storage areas. This notice also announces public scoping meetings that will be held to identify potential issues and alternatives to be considered in the EIS.

DATES: The dates of the public scoping meetings will be included in notices posted in the Vernal Express, Basin Standard, and Salt Lake Tribune, 15 days prior to the meeting. Written comments on the scope of the EIS or implementation of the proposal must arrive within 30 days following the public scoping meeting.

ADDRESSES: You may mail or hand carry written comments to Bucky Secakuku, Realty Specialist, Bureau of Indian Affairs, Uintah and Ouray Agency, 988 South 7500 East, P.O. Box 130, Fort Duchesne, Utah 84026; telephone: (435) 722-4331; e-mail: Ute.Tribe.EIS@buysandassociates.com. The locations of the public scoping meetings will be included in notices posted in the Vernal Express, Basin Standard, and Salt Lake Tribune, 15 days prior to the meeting. See SUPPLEMENTARY INFORMATION for instructions for submitting comments.

FOR FURTHER INFORMATION CONTACT: Manuel Moyre, Acting Energy Minerals Director, Ute Indian Tribe, Energy and Minerals Department, 988 South 7500 East Annex Building, P.O. Box 70, Fort Duchesne, Utah 84026; telephone: (435) 725-4967; e-mail: ManuelM@utetribe.com.

SUPPLEMENTARY INFORMATION: The goals of this EIS are to provide agency decision makers, the Ute Tribe, and the general public with a comprehensive analysis and understanding of oil and gas development alternatives on the Reservation, and their existing and potential future impacts; to provide a better understanding of the cumulative impacts of increased development on the Reservation; to identify and propose mitigation measures that would minimize or prevent significant adverse impacts; to provide a programmatic National Environmental Policy Act (NEPA) document from which to tier future site-specific environmental analyses of oil and gas development proposals; and to provide a framework for approval of oil and gas operations for the next 15 years.

This EIS analyzes oil and gas development strategies on the Reservation over the next 15 years. For the purposes of this EIS the “Analysis Area” will include a total of 1,886,770 acres. This acreage includes a non-congruent combination of Tribal surface (1,064,570 acres) and estate (873,540 acres) that intermittently overlap across the Reservation.

The Proposed Action consists of drilling up to 4,899 oil and/or natural gas wells over the next 15 years, with a life-of-project of 40 years. Approximately 10 percent of the wells would be drilled on existing pads. Economic conditions and the evaluation of the drilling results would determine the actual number of wells that would be drilled. In addition to well pad development, linear developments would include roads, pipelines, and powerlines. Surface disturbance would also occur as a result of development of ancillary facilities such as compressor stations, water treatment facilities, and storage areas. Initial disturbance from construction of these components is estimated to be approximately 23,254 acres.

The purpose for the activities proposed in this EIS is to economically extract, in an efficient and environmentally compatible manner, the oil and gas resources known to exist in mineral estates held in trust by the United States for the benefit of the Ute Indian Tribe and individual Indians. The action is proposed to meet the Ute Indian Tribe's need to maximize their economic benefit from this trust source.

The BIA will have authority over decisions regarding the EIS and these decisions will be documented in a Record of Decision. Cooperating agencies will provide expertise and data for their resources of interest and will aid in the development of alternatives and mitigation measures that will minimize or prevent significant adverse impacts.

Directions for Submitting Public Comments

Please include your name, return address, and the caption “EIS, Uintah and Ouray Oil and Gas Development,” on the first page of your written comments. You may also submit comments at the public scoping meetings.

Public Availability of Comments

Comments, including names and addresses of respondents, will be available for public review at the BIA address shown in the ADDRESSES section, during business hours, 7:30 a.m. to 4:30 p.m., Monday through Friday, except holidays. Before including your address, phone number, e-mail address, or other personal identifying information in your comment, you should be aware that your entire comment—including your personal identifying information—may be made publicly available at any time. While you can ask us in your comment to withhold your personal identifying information from public review, we cannot guarantee that we will be able to do so.

Authority

This notice is published in accordance with sections 1503.1 of the Council of Environmental Quality Regulations (40 CFR parts 1500 through 1508) implementing the procedural requirements of NEPA, as amended (42 U.S.C. 4371 et seq.), Department of the Interior Manual (516 DM 1-6), and is in the exercise of authority delegated to the Principal Deputy Assistant Secretary—Indian Affairs, by part 209 of the Departmental Manual.

Dated: August 6, 2010.
George T. Skibine,
Acting Principal Deputy Assistant Secretary—Indian Affairs.

[FR Doc. 2010-20875 Filed 8-20-10; 8:45 am]

BILLING CODE 4310-W7-P